DEPARTMENT OF HOMELAND SECURITY

Federal Emergency Management Agency

[Docket ID FEMA-2017-0002; Internal Agency Docket No. FEMA-B-1749]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before January 10, 2018.

ADDRESSES: The Preliminary FIRM, and where applicable, the FIS report for each community are available for inspection at both the online location and the respective Community Map Repository address listed in the tables below. Additionally, the current effective FIRM and FIS report for each community are accessible online through the FEMA Map Service Center at www.msc.fema.gov or http://www.fema.gov/preliminaryfloodhazarddata for comparison.

You may submit comments, identified by Docket No. FEMA-B-1749, to Rick Sacbibit, Chief, Engineering Services Branch, Federal Insurance and Mitigation Administration, FEMA, 400 C Street SW., Washington, DC 20472, (202) 646-7659, or (email) patrick.sacbibit@fema.dhs.gov.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at http://floodsrp.org/pdfs/srp_fact_sheet.pdf.

The watersheds and/or communities affected are listed in the tables below. The Preliminary FIRM, and where applicable, FIS report for each community are available for inspection at both the online location and the respective Community Map Repository address listed in the tables. For communities with multiple ongoing Preliminary studies, the studies can be identified by the unique project number and Preliminary FIRM date listed in the tables. Additionally, the current effective FIRM and FIS report for each community are accessible online through the FEMA Map Service Center at www.msc.fema.gov for comparison.

(Catalog of Federal Domestic Assistance No. 97.022, “Flood Insurance.”)

Dated: September 25, 2017.
Roy E. Wright,
Deputy Associate Administrator for Insurance and Mitigation, Department of Homeland Security, Federal Emergency Management Agency.

Community | Community map repository address
Blount County, Alabama and Incorporated Areas
Project: 15-04-8752S Preliminary Date: March 29, 2017
City of Oneonta | City Hall, 202 3rd Avenue East, Oneonta, AL 35121.
Town of Altoona | Town Hall, 2844 Main Street, Altoona, AL 35952.
Town of Cleveland | Town Hall, 62732 U.S. Highway 231, Cleveland, AL 35049.
Town of Highland Lake | Town Hall, 612 Lakeshore Drive, Highland Lake, AL 35121.
Town of Locust Fork | Town Hall, 34 Town Hall Road, Locust Fork, AL 35097.
Town of Nectar | Nectar Town Hall, 14795 State Highway 160, Cleveland, AL 35049.
Town of Rosa | Rosa Town Hall, 35 Waterton Drive, Oneonta, AL 35121.
Town of Snead | Town Hall, 87169 U.S. Highway 278, Snead, AL 35952.
Town of Susan Moore | Susan Moore Town Hall, 39989 State Highway 75, Altoona, AL 35952.
Unincorporated Areas of Blount County | Blount County Engineering Department, 6454 2nd Avenue West, Oneonta, AL 35121.
Etowah County, Alabama and Incorporated Areas
Project: 15-04-8752S Preliminary Date: March 29, 2017
Town of Altoona | Town Hall, 2844 Main Street, Altoona, AL 35952.
Town of Walnut Grove | Town Hall, 4012 Gadsden Blountsville Road, Walnut Grove, AL 35990.
Unincorporated Areas of Etowah County | Etowah County Engineer's Office, 402 Tuscaloosa Avenue, Gadsden, AL 35901.
Jefferson County, Alabama and Incorporated Areas
Project: 15-04-8752S Preliminary Date: March 29, 2017
City of Adamsville | City Hall, 4828 Main Street, Adamsville, AL 35005.
City of Birmingham | Department of Planning, Engineering, and Permits, 710 North 20th Street, 5th Floor, Birmingham, AL 35203.
City of Clay | Clay City Hall, 2441 Old Springville Road, Birmingham, AL 35215.
City of Fultondale | Business License, Permit, and Inspections Department, 1015 Old Walker Chapel Road, Fultondale, AL 35068.
City of Gardendale | Inspections Services Department, 925 Main Street, Gardendale, AL 35071.
City of Graysville | City Hall, 246 South Main Street, Graysville, AL 35073.
City of Kimberly | City Hall, 9256 Stouts Road, Kimberly, AL 35091.
City of Pinson | City Hall, 4410 Main Street, Pinson, AL 35126.
City of Sumiton | City Hall, 416 State Street, Sumiton, AL 35148.
City of Tarrant | City Hall, 1604 Pinson Valley Parkway, Tarrant, AL 35217.
City of Warrior | City Hall, 215 Main Street North, Warrior, AL 35180.
Town of Brookside | Town Hall, 2711 Municipal Lane, Brookside, AL 35036.
Town of Cardiff | Jefferson County Land Development Office, 716 Richard Arrington Jr. Boulevard North, Room 260, Birmingham, AL 35203.
Town of Maytown | Maytown Town Hall, 4509 Town Hall Drive, Mulga, AL 35118.
Town of Morris | Town Hall, 8304 Stouts Road, Morris, AL 35116.
Town of Mulga | Town Hall, 505 Mulga Loop Road, Mulga, AL 35118.
Town of Sylvan Springs | Town Hall, 100 Rock Creek Road, Sylvan Springs, AL 35118.
Town of Trafford | Town Hall, 9239 East Commercial Avenue, Trafford, AL 35172.
Town of West Jefferson | West Jefferson Town Hall, 7000 West Jefferson Road, Quinton, AL 35130.
Unincorporated Areas of Jefferson County | Jefferson County Land Development Office, 716 Richard Arrington Jr. Boulevard North, Room 260, Birmingham, AL 35203.
Marshall County, Alabama and Incorporated Areas
Project: 15-04-8752S Preliminary Date: March 29, 2017
City of Albertville | City Hall, 116 West Main Street, Albertville, AL 35950.
City of Boaz | City Hall, 112 North Broad Street, Boaz, AL 35957.
Town of Douglas | Town Hall, 55 Alabama Highway 168, Douglas, AL 35964.
Unincorporated Areas of Marshall County | Marshall County Engineering Department, 424 Blount Avenue, Suite A337, Guntersville, AL 35976.
Clear Creek County, Colorado and Incorporated Areas
Project: 12-08-0607S Preliminary Date: February 8, 2017
City of Idaho Springs | City Hall, 1711 Miner Street, Idaho Springs, CO 80452.
Town of Georgetown | Town Hall, 404 6th Street, Georgetown, CO 80444.
Unincorporated Areas of Clear Creek County | Clear Creek County Annex, 1111 Rose Street, Georgetown, CO 80444.
Jefferson County, Colorado and Incorporated Areas
Project: 12-08-0607S Preliminary Date: February 8, 2017
City of Arvada | Engineering Department, 8101 Ralston Road, Arvada, CO 80002.
City of Golden | Public Works Department, 1445 10th Street, Golden, CO 80401.
Unincorporated Areas of Jefferson County | Jefferson County Planning and Zoning Division, 100 Jefferson County Parkway, Suite 3550, Golden, CO 80419.
Greenville County, South Carolina and Incorporated Areas
Project: 16-04-6906S Preliminary Date: February 28, 2017
Unincorporated Areas of Greenville County | Greenville County Floodplain Management Office, 301 University Ridge, Suite 4100, Greenville, SC 29601.
Jasper County, South Carolina and Incorporated Areas
Project: 07-04-0633S Preliminary Date: January 16, 2017
City of Hardeeville | City Hall, 205 Main Street, Hardeeville, SC 29927.
Town of Ridgeland | Town Hall, 1 Town Square, Ridgeland, SC 29936.
Unincorporated Areas of Jasper County | Jasper County Planning and Building Services, 358 3rd Avenue, Room 202, Ridgeland, SC 29936.

[FR Doc. 2017-22028 Filed 10-11-17; 8:45 am]

BILLING CODE 9110-12-P